ENVIRONMENTAL PROTECTION AGENCY

[EPA-HQ-OECA-2014-0045; FRL—9920-10-OEI]

Information Collection Request Submitted to OMB for Review and Approval; Comment Request; NSPS for Municipal Waste Combustors (Renewal)

AGENCY: Environmental Protection Agency (EPA).

ACTION: Notice.

SUMMARY: The Environmental Protection Agency has submitted an information collection request (ICR), “NSPS for Municipal Waste Combustors (40 CFR part 60, subparts Ea and Eb) (Renewal)” (EPA ICR No. 1506.13, OMB Control No. 2060-0210) to the Office of Management and Budget (OMB) for review and approval in accordance with the Paperwork Reduction Act (44 U.S.C. 3501 et seq.). This is a proposed extension of the ICR, which is currently approved through January 31, 2015. Public comments were previously requested via the Federal Register (79 FR 30117) on May 27, 2014, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 12, 2015.

ADDRESSES: Submit your comments, referencing Docket ID Number EPA-HQ-OECA-2014-0045, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, William Jefferson Clinton West, Room 3334, 1301 Constitution Ave. NW., Washington, DC. The telephone number for the Docket Center is 202-566-1744. For additional information about EPA's public docket, visit http://www.epa.gov/dockets.

Abstract: These standards apply to each municipal waste combustor (MWC) unit with a capacity greater than 250 tons per day of municipal solid waste which commenced construction, modification or reconstruction after December 20, 1989. MWCs are required to keep records and periodically report their compliance status. Information required by the NSPS is necessary to ensure that emission standards are attained and that MWC's are properly operated and maintained.

Form Numbers: None.

Respondents/affected entities: Owners and operators of municipal waste combustor units.

Respondent's obligation to respond: Mandatory (40 CFR part 60, subparts Ea and Eb).

Estimated number of respondents: 13 (total).

Frequency of response: Initially, quarterly, semiannually, and annually.

Total estimated burden: 20,272 hours (per year). Burden is defined at 5 CFR 1320.3(b).

Total estimated cost: $1,897,888 (per year), includes $136,636 annualized capital or operation & maintenance costs.

Changes in the Estimates: There is a decrease of 149 hours in the total estimated respondent burden compared with the ICR currently approved by OMB. These changes are due to the following adjustments: (1) The number of sources subject to each Subpart was revised to reflect more recent information obtained through the Agency's research within the MWC sector; (2) the number of sources required to submit initial notification and site analysis was corrected to reflect this activity as a burden only for new sources, rather than for existing sources; (3) several mathematical errors in calculating burden costs were corrected; and (4) all estimates were updated using more recent labor rates.

Courtney Kerwin,
Acting Director, Collection Strategies Division.

[FR Doc. 2015-00307 Filed 1-12-15; 8:45 am]

BILLING CODE 6560-50-P